DEPARTMENT OF DEFENSE

Department of the Navy

Record of Decision for Disposal and Reuse of the Fleet Industrial Supply Center, Naval Fuel Depot Point Molate, CA

AGENCY: Department of the Navy, DOD.

ACTION: Notice.

SUMMARY: The Department of the Navy (DON) announces its decision to dispose of the Fleet Industrial Supply Center, Naval Fuel Depot Point Molate near Richmond, CA.

FOR FURTHER INFORMATION CONTACT: Mr. Alan Lee, Southwest Div, Naval Facilities Engineering Command, 1230 Columbia St, Suite 1100, San Diego, CA 92101, telephone (619) 532-0975, facsimile (619) 532-0940.

SUPPLEMENTARY INFORMATION: Under the authority of the Defense Base Closure and Realignment Act (DBCRA) of 1990, Public Law 101-510, 10 U.S.C. 2687 note at 582-606, and pursuant to Section 102(2)(C) of the National Environmental Policy Act of 1969 (NEPA), 42 U.S.C. Section 4332(2)(C) (1994), and the regulations of the Council on Environmental Quality that implement NEPA procedures, 40 CFR parts 1500-1508, and the Department of Navy regulations implementing the federal regulations, 32 CFR 775, the Department of the Navy announces its decision to dispose of Fleet and Industrial Supply Center, Naval Fuel Depot Point Molate (NFD Point Molate), Richmond, CA. Disposal of this property will permit productive reuse of this surplus federal property. Several reuse alternatives were evaluated in the Environmental Impact Statement (EIS), including the Preferred Alternative (Alternative 2), light commercial and light industrial development.

Alternatives Considered

The proposed action is the disposal of the NFD Point Molate property. The Final EIS analyzed effects of the Preferred Reuse Plan, and effects of two other reuse plan alternatives. The No Action Alternative was also evaluated.

Alternative 1, Residential/Commercial, would use about 55 acres for residential development, 27 acres for commercial activities, 6 acres for light industrial activities, and 325 acres, including 100 acres of submerged land, for open space/recreation.

The Preferred Alternative, Alternative 2, Industrial/Commercial, would use about 27 acres for commercial activities, 61 acres for light industrial activities, and 325 acres, including 100 acres of submerged land, for open space/recreation.

Alternative 3, Recreation/Commercial, would use about 27 acres for commercial activities, 8 acres for light industrial activities, and 378 acres, including 100 acres of submerged land, for open/space recreation.

No Action Alternative, NFD Point Molate would not be disposed and would remain in Federal caretake status. The Navy would maintain the physical condition of the property by providing security and making repairs essential to safety. Because the No Action Alternative has less potential for adverse environmental impacts, it is the environmentally preferable alternative. However, the No action Alternative would not promote local economic development nor create jobs and, therefore, is inconsistent with the statutory direction contained in the DBCRA.

Environmental Impacts

DON analyzed the direct, indirect, and cumulative impacts of each alternative on the environment. Potential significant impacts that could result from Alternative 2 are discussed below.

Expansion of the existing sewage treatment plant or construction of a new sewage treatment plant and operation of a winery on site could result in incomparability between these land uses and other development on site. Until a specific project is identified, it is not possible to identify the amount or type of commercial uses that might be proposed in the Waterfront Park Beach priority use area. Proposed uses could be inconsistent with the San Francisco Bay Plan. The EIS includes minimization and avoidance measures that the developer could implement that would reduce these potential impacts to insignificant levels. There is also the potential for exposures of occupants of the property to accidental releases from a nearby refinery. However, most occupants would not be staying overnight and overnight stays would be limited to guests and staff of a hotel or bed and breakfast facility. The Bay Area Air Quality Management District (BAAQMD) does not consider these occupants sensitive receptors. Because there would be no sensitive receptors on site as defined by the BAAQMD this potential impact is considered insignificant.

The proposed redevelopment would increase the demand for police, fire, and emergency medical services. The distance between NFD Point Molate and local city fire stations could require the city to establish a fire crew and fire truck at the existing fire station. Although the existing water system at NFD Point Molate has inadequate water pressure to meet firefighting requirements, the Preferred Alternative includes upgrading the water system to satisfy these requirements.

Five cultural resources at NFD Point Molate have been identified: Winehaven Historic District and four archeological sites. The Winehaven Historic District is the only property at Point Molate listed on the National Register of Historic Places. Pursuant to Section 106 of the National Historic Preservation Act and its implementing regulations, 36 CFR part 800, the Navy has completed consultation with the Advisory Council on Historic Preservation (ACHP), the California State Historic Preservation Officer (SHPO), and the Bay Miwok Band American Indian tribe. As a result of these consultations, the Navy has agreed to several actions to avoid or minimize adverse impacts to cultural resources. These obligations are set forth in a Memorandum of Agreement among the Navy, the ACHP, the SHPO, and the Bay Miwok, dated January 29, 2002. Before conveying any property at NFD Point Molate, the Navy will submit an amendment to the National Register of Historic Places for the Winehaven Historic District. The amendment will distinguish between the contributing and non-contributing buildings and structures within the District. The Navy is also applying to the California Historical Resources Commission to reduce the Winehaven Historic District boundary as it appears on the California Register of Historic Resources, so that non-contributing properties are excluded. The Navy is nominating a historic Shrimp Camp (CA-CCO-506H) to the National Register and will formally evaluate the National Register eligibility of three prehistoric archeological sites (CA-CCO-282, CA-CCO-283, and CA-CCO-423), and if they are determined eligible, nominate them to the National Register.

There are no Federally listed threatened or endangered species known to occur on the NFD Point Molate property under the Endangered Species Act.

The Preferred Alternative could have significant impacts on transportation, traffic, and circulation. Projected traffic could cause substantial delays during peak commuting hours at three intersections of freeway ramps and roadways near NFD Point Molate. On one ramp, a local agency planning threshold would be exceeded. In addition, off-site road segments between NFD Point Molate and the nearby freeway are substandard and access to the property is lacking from one direction of the freeway. Significant impacts could be mitigated by the local and state governmental agencies through widening the road accessing the property, road restriping and other modifications detailed further in the EIS.

The Navy analyzed the impacts on children pursuant to Executive Order 13045, Protection of Children from Environmental Health Risks and Safety Risks, 3 CFR 198 (1998). Under the Preferred Alternative children could be present for short periods in the bed and breakfast establishments, small hotels, and recreational areas. NFD Point Molate is within the toxic or flammable endpoints for accidental releases by Chevron Refinery and General Chemical Corporation, as assessed in conformation with the Risk Management Program Rule (40 CFR 68.130; Section 112(r) of the Clean Air Act). Since children are less able to metabolize, detoxify, and excrete some toxic substances than adults, in the event of an accidental release of substantial quantities of toxic contaminants, there could be disproportionate health and safety risks to children at NFD Point Molate.

Mitigation

The Navy will take certain actions to implement existing agreements and to comply with regulations. Once property is conveyed outside of federal control, land use is solely a function of state and local planning and zoning authorities. The DON cannot impose post conveyance restrictions on land use absent specific statutory authority to do so such as that provided for the imposition of land use controls under Comprehensive Environmental Response, Compensation, and Liability Act. As a result, the DON has no authority to require that parties acquiring the former NFD Point Molate property impose the mitigation measures identified in the Final EIS or this Record of Decision.

Response to Comments Received Regarding the Final EIS

After the Final EIS was distributed to the public the Navy received one comment letter from Contra Costa Health Services. Their concerns had already been addressed in the Final EIS and do not require further clarification.

Conclusion

Although the No Action Alternative is the environmentally preferred alternative, it would not promote local economic redevelopment and create jobs. Keeping the property in caretaker status would not be the highest and best use of the property because it would not take advantage of the property's physical characteristics and infrastructure.

Based on the analysis contained in the Final EIS and the associated administrative record, I have decided, on behalf of the Department of the Navy, to dispose of the Fleet and Industrial Supply Center, Naval Fuel Depot Point Molate.

Dated: June 4, 2002.
Duncan Holaday,
Deputy Assistant Secretary, (Installations and Facilities).

[FR Doc. 02-15540 Filed 6-17-02; 8:45 am]

BILLING CODE 3810-FF-M